DEPARTMENT OF VETERANS AFFAIRS

Class Deviation From Federal Acquisition Regulation 32.905 Electronic Submission of Invoices

AGENCY: Department of Veterans Affairs (VA).

ACTION: Notice.

SUMMARY: This is to notify interested parties of a class deviation to the Federal Acquisition Regulation (FAR) regarding the submission of electronic invoices for payment. VA intends to deviate from FAR 32.905 in order to add an interim clause to the VA Acquisition Regulation (VAAR).

The electronic invoicing clause allows vendors to voluntarily submit invoices electronically which will improve the accuracy and efficiency of payment processing. This service will apply to all Government contracts managed by VA's Financial Services Center in Austin, Texas. A proposed and final rule to make this service mandatory will be published in the Federal Register in the coming months.

FOR FURTHER INFORMATION CONTACT: Marcia Rodrigues, Procurement Analyst, Office of Acquisition and Logistics, (001AL-P1A), Department of Veterans Affairs, 810 Vermont Avenue, NW., Washington, DC 20420. Telephone: (202) 461-6864 (This is not a toll-free number).

SUPPLEMENTARY INFORMATION: The authority for the electronic invoicing clause is the E-Government Act of 2002. The interim clause will allow VA to comply with the findings, purposes, and responsibilities of the Act. The interim clause gives contractors a choice to submit for invoice payment in electronic form using one of three transmission methods: (1) Electronic Invoice Presentment and Payment System; (2) American National Standards Institute (ANSI) X.12 electronic data interchange (EDI) formats; and (3) Other electronic form as specified by the contract administration office and the designated agency office.

VA Acquisition Regulation Solicitation Provision and Contract Clause (October 2008)

Subpart 832.10—Electronic Invoicing Requirements

832.1001 Contract Clause for Electronic Submission of Payment Requests

In all solicitations and contracts in which the VA Financial Services Center (FSC) in Austin, Texas is the financial office administering the invoicing and payments, the contracting officer shall insert the clause found at 852.273-76, Electronic Invoice Submission.

852.273-76 Electronic Invoice Submission (Interim—October 2008)

As prescribed in 832.1001, insert the following clause:

(a) To improve the timeliness of payments and lower overall administrative costs, VA strongly encourages contractors to submit invoices using its electronic invoicing system. At present, electronic submission is voluntary and any nominal registration fees will be the responsibility of the contractor. VA intends to mandate electronic invoice submission, subject to completion of the federal rulemaking process. At present, VA is using a 3rd party agent to contact contractors regarding this service. During the voluntary period, contractors interested in registering for the electronic system should contact the VA's Financial Services Center at http://www.fsc.va.gov/einvoice.asp.

Approved: June 29, 2009.
John R. Gingrich,
Chief of Staff, Department of Veterans Affairs.

[FR Doc. E9-15862 Filed 7-6-09; 8:45 am]

BILLING CODE 8320-01-P